DEPARTMENT OF COMMERCE

National Oceanic and Atmospheric Administration

RIN 0648-XK31

Small Takes of Marine Mammals Incidental to Specified Activities; Seabird and Pinniped Research Activities in Central California

AGENCY: National Marine Fisheries Service (NMFS), National Oceanic and Atmospheric Administration (NOAA), Commerce.

ACTION: Notice; proposed incidental harassment authorization; request for comments.

SUMMARY: NMFS has received a request from PRBO Conservation Science (PRBO) for a one-year authorization to take small numbers of marine mammals by harassment incidental to conducting seabird and pinniped research activities on Southeast Farallon Island, Año Nuevo Island, and Point Reyes National Seashore in central California. Pursuant to the Marine Mammal Protection Act (MMPA), NMFS requests comments on its proposal to authorize PRBO to take, by Level B harassment, small numbers of several species of pinnipeds at Southeast Farallon Island, Año Nuevo Island, and Point Reyes National Seashore beginning December 2008.

DATES: Comments and information must be received no later than October 29, 2008.

ADDRESSES: Comments on the application should be addressed to P. Michael Payne, Chief, Permits, Conservation and Education Division, Office of Protected Resources, National Marine Fisheries Service, 1315 East-West Highway, Silver Spring, MD 20910-3225. The mailbox address for providing e-mail comments is PR1.0648-XK31@noaa.gov. Comments sent via e-mail, including all attachments, must not exceed a 10-megabyte file size.

A copy of the application and other related documents may be obtained by writing to the above address, telephoning one of the contacts listed here (see FOR FURTHER INFORMATION CONTACT), or visiting the internet at: http://www.nmfs.noaa.gov/pr/permits/incidental.htm#applications.

Documents cited in this notice may be viewed, by appointment, during regular business hours, at the aforementioned address.

FOR FURTHER INFORMATION CONTACT: Jeannine Cody or Jaclyn Daly, NMFS, (301) 713-2289, or Monica DeAngelis, NMFS Southwest Region, (562) 980-3232.

SUPPLEMENTARY INFORMATION:

Background

Sections 101(a)(5)(A) and (D) of the MMPA (16 U.S.C. 1361 et seq.) direct the Secretary of Commerce to allow, upon request, the incidental, but not intentional, taking of small numbers of marine mammals by United States citizens who engage in a specified activity (other than commercial fishing) within a specified geographical region if certain findings are made and either regulations are issued or, if the taking is limited to harassment, notice of a proposed authorization is provided to the public for review.

Authorization for incidental takings shall be granted if NMFS finds that the taking will have a negligible impact on the species or stock(s), and will not have an unmitigable adverse impact on the availability of the species or stock(s) for certain subsistence uses, and if the permissible methods of taking and requirements pertaining to the mitigation, monitoring, and reporting of such taking are set forth.

NMFS has defined “negligible impact” in 50 CFR 216.103 as:

..an impact resulting from the specified activity that cannot be reasonably expected to, and is not reasonably likely to, adversely affect the species or stock through effects on annual rates of recruitment or survival.

Section 101(a)(5)(D) of the MMPA established an expedited process by which citizens of the United States can apply for an authorization to incidentally take small numbers of marine mammals by harassment. Except for certain categories of activities not pertinent here, the MMPA defines “harassment” as:

any act of pursuit, torment, or annoyance which (i) has the potential to injure a marine mammal or marine mammal stock in the wild [“Level A harassment”]; or (ii) has the potential to disturb a marine mammal or marine mammal stock in the wild by causing disruption of behavioral patterns, including, but not limited to, migration, breathing, nursing, breeding, feeding, or sheltering [“Level B harassment”].

Section 101(a)(5)(D) establishes a 45-day time limit for NMFS' review of an application followed by a 30-day public notice and comment period on any proposed authorizations for the incidental harassment of small numbers of marine mammals. Within 45 days of the close of the comment period, NMFS must either issue or deny the authorization.

Summary of Request

On July 28, 2008, NMFS received an application from PRBO requesting an authorization for the harassment of small numbers of California sea lions (Zalophus californianus), Pacific harbor seals (Phoca vitulina richardsi), northern elephant seals (Mirounga angustirostris), and Steller sea lions (Eumetopias jubatus) incidental to conducting seabird and pinniped research operations on Southeast Farallon Island, Año Nuevo Island, and Point Reyes National Seashore in central California (CA). The proposed action area consists of the following three locations:

South Farallon Islands (SFI)

SFI consists of Southeast Farallon Island (SEFI) and West End Island (WEI). These two islands are directly adjacent to each other and separated by only a 30-foot (ft) (9.1 meters (m)) channel. The SFI have a land area of approximately 120 acres (0.49 square kilometers (km)) and are part of the Farallon National Wildlife Refuge. The islands are located near the edge of the continental shelf 28 miles (45.1 km) west of San Francisco, CA, and lie within the waters of the Gulf of the Farallones National Marine Sanctuary (NMS).

Año Nuevo Island (ANI)

ANI is located one-quarter mile (402 m) offshore of Año Nuevo Point in San Mateo County, CA). This small 25-acre (0.1 square km) island is part of the Año Nuevo State Reserve, all of which is owned and operated by California State Parks. ANI lies within the Monterey Bay NMS and the newly established Año Nuevo State Marine Conservation Area.

Point Reyes National Seashore (PRNS)

PRNS is located 40 miles (64.3 km) north of San Francisco Bay and lies within close proximity (6 miles, 9.6 km) of the Cordell Bank NMS. The proposed research areas are within the headland coastal areas of this large National Park.

Specified Activities

Seabird Research on SEFI

Seabird research activities involve observational and marking (i.e. netting and banding for capture-mark-recapture) studies of breeding seabirds and viewing breeding seabirds from an observation blind or censusing shorebirds. This activity usually involves one or two observers who access the island's two landings, the North Landing and the East Landing, by 14 to 18 ft (4.3 to 5.5 m) open motorboats which are hoisted onto the island using a derrick system.

Researchers visit the sites approximately one to three times per day for a maximum of 1080 visits per year. Most visits to these areas are brief (approximately 15 minutes). From early April through early August, seabird observers are present from two to five hours daily at North Landing to conduct observational studies on breeding Common Murres (Uria aalge).

Most intertidal areas of the island, where marine mammals are present, are rarely visited in seabird research. In both locations (North Landing and East Landing) the observers are located greater than 50 feet (15.2 m) above any pinnipeds primarily California sea lions or northern elephant seals and to a lesser extent harbor seals which may be hauled out. Most potential for incidental take will occur at the island's two landings. However, the likelihood of encountering the eastern stock of Steller sea lions at both sites is rare.

Field Station Resupply on SEFI

PRBO will resupply the field station once every two weeks for a maximum of 26 visits per year. These visits to either the North Landing or East Landing will last one to three hours and involve launching of the boat with one operator along with two to four researchers assisting with the operations from land. At East Landing the primary landing site all personnel assisting with the landing will stay on the loading platform 30 ft (9.1 m) above the water. At North Landing, loading operations occur at the water level in the intertidal. Again, the likelihood of encountering eastern Steller sea lions at this location is rare.

Pinniped Research on West End Island (WEI)

Pinniped research activities involve surveying breeding elephant seals on WEI between early December and late February. There are approximately five surveys per year, each lasting approximately two hours. These surveys involve three observers moving approximately 1500 ft (457.2 m) above pinniped colonies to census northern elephant seal areas. Any transit above eastern Steller sea lion haulout areas will last approximately 30 minutes in duration.

Seabird Research on Año Nuevo Island (ANI)

Seabird research activities involve monitoring seabird burrow nesting habitat quality and habitat restoration between the seabird breeding season and the elephant seal pupping season. All work is conducted by PRBO in collaboration with Oikonos - Ecosystem Knowledge through a collaborative agreement with California State Parks.

This activity involves two to three researchers who may access the island by a 12 ft (3.7 m) Zodiac boat to conduct research once a week April through August; restoration and monitoring from September-November; and intermittent visits during the rest of the year. Landings and visits to the nest boxes are brief in duration (approximately 15 minutes) and the maximum number of visits to the island would be 30 per year.

Most potential for incidental take would occur at the landing beach on the north side of the island when the researchers arrive and depart to check the boxes. Non-breeding pinnipeds may occasionally be present, including California sea lions that may be hauled out near a small group of subterranean seabird nest boxes on the island terrace. In both locations researchers are located more than 50 ft (15.2 m) away from any pinnipeds which may be hauled out.

Seabird Research on Point Reyes National Seashore (PRNS)

The National Park Service in collaboration with PRBO conducts: marine mammal research (see NMFS Scientific Permit 373-1868); seabird breeding and roosting colonies monitoring; habitat restoration; removal of non-native plants, intertidal monitoring, and maintenance of coastal dune habitat.

Seabird monitoring usually involves one or two observers conducting the survey by small boats (12 to 22 ft) along the PRNS shoreline. Observers will visit the site year round, with an emphasis during the seabird nesting season with occasional, intermittent visits the rest of the year. The maximum number of visits per year to the PRNS is 18.

A majority of the research occurs in areas where marine mammals are not present. However, the potential for incidental harassment will occur at the landing beaches along Point Reyes Headland, boat ramps, or parking lots where northern elephant seals, harbor seals, or California sea lions may be hauled out.

Description of the Marine Mammals Potentially Affected by the Activity

The marine mammals most likely to be harassed incidental to conducting seabird research at the proposed research areas on SEFI, ANI, and PRNS are primarily California sea lions, northern elephant seals, Pacific harbor seals, and to a lesser extent Steller sea lions.

The marine mammals most likely to be harassed incidental to conducting research on harbor seals and northern elephant seals (NMFS Scientific Research Permit (SRP) 373-1868-00) are primarily Steller sea lions. Incidental harassment of elephant seals, harbor seals, California sea lions, and northern fur seals is authorized by SRP 373-1868-00.

General information of these species can be found in Caretta et al. (2008) and is available at the following URL: http://www.nmfs.noaa.gov/pr/pdfs/sars/po2007.pdf. Refer to that document for information on these species. Additional information on these species is presented below.

Northern Elephant Seal

The northern elephant breeding population is distributed from central Baja California, Mexico, to the Point Reyes Peninsula in northern California. Along this coastline there are 13 major breeding colonies. The northern elephant seal was exploited for its oil during the 18th and 19th centuries and by 1900 the population was reduced to 20 to 30 individuals on Guadalupe Island (Hoelzel et al., 1993; Hoelzel, 1999). As a result of this bottleneck, the genetic diversity found in this species is extremely low (Hoelzel, 1999). The recent formation of most rookeries indicates that there is no genetic differentiation among populations. Although movement and genetic exchange occurs among colonies, most seals return to their natal site to breed (Huber et al., 1991). Recolonization of their former breeding range progressed north from the San Benito and Guadalupe Islands off Baja California to the most recent northernmost breeding site at Point Reyes Headlands. In the last three decades, annual pup production has increased at the rate of 9.43 plus or minus 0.51 percent per year in California and 5.19 plus or minus 0.33 percent per year over the entire range (Barlow et al., 1993).

A complete population count of elephant seals is not possible because all age classes are not ashore at the same time. Elephant seal population size is typically estimated by counting the number of pups produced and multiplying by the inverse of the expected ratio of pups to total animals (McCann 1985). Stewart et al., (1994) used McCann's multiplier of 4.5 to extrapolate from 28,164 pups to a population estimate of 127,000 elephant seals in the U.S. and Mexico in 1991. The multiplier of 4.5 was based on a non-growing population. Boveng (1988) and Barlow et al. (1993) suggest that a multiplier of 3.5 is more appropriate for a rapidly growing population such as the California stock of elephant seals. Based on the estimated 35,549 pups born in California in 2005 and this 3.5 multiplier, the California stock was approximately 124,000 in 2005.

At Point Reyes, the population grew at 32.8 percent per year between 1988 and 1997 (Sydeman and Allen, 1999) and around 10 percent per year since 2000 (S. Allen, unpubl. data), and in 2006 around 700 pups were born at three primary breeding areas. The population on the Farallon Islands has declined by 3.4 percent per year since 1983, and in recent years numbers have fluctuated between 100 and 200 pups (W. Sydeman, D. Lee, unpubl. data).

Elephant seals congregate in central California to breed from late November to March. Females typically give birth to a single pup and attend the pup for up to six weeks. Breeding occurs after the pup is weaned by attending males. After breeding, seals migrate to the Gulf of Alaska or deeper waters in the eastern Pacific. Adult females and juveniles return to terrestrial colonies to molt in April and May, and males return in June and July to molt, remaining onshore for around three weeks.

Pacific Harbor Seal

Harbor seals are one of the most widely distributed pinnipeds in the northern hemisphere and are found in coastal, estuarine and some times fresh water of both the Atlantic and Pacific Oceans. There is considerable regional genetic differentiation between harbor seal populations as they are generally limited in migratory movements. Under the MMPA, six stocks of Pacific harbor seals are identified within the U.S. waters (Angliss and Lodge, 2004; Carretta et al., 2008). Only the California stock of harbor seal is found in the proposed project area, and its abundance is estimated to be 34,233 (Carretta et al., 2008). There is some question whether the San Francisco Bay population may be a separate stock based on genetic analyses (D. German, Sonoma State University, pers. com.). At Point Reyes, the harbor seal population is estimated to be 7,524 for the molt season based on a correction factor of 1.65 (Lowry et al., 2005; Manna et al., 2006).

In central California, harbor seals breed annually from March through May and molt in June and July. Females give birth to a single pup and attend the pup for around 30 days, at which time they wean pups. Mating occurs in the water around the time of weaning. Harbor seals are resident year round at terrestrial colonies; however, juveniles may disperse to other colonies ranging up to 500 km (311 miles (mi)). Individual adult seals may also migrate widely from breeding colonies.

California Sea Lion

California sea lions range from southern Mexico up to British Columbia and breed almost entirely on islands in southern California, Western Baja California and the Gulf of California. In recent years, California sea lions have begun to breed annually in small numbers at ANI and SFI, CA. One abandoned pup was found at PRNS at Wildcat Beach in 2003. This species is separated into three recognized stocks based on three geographic regions (U.S. stock, Western Baja stock, and the Gulf of California stock; Lowry et al., 1992). Some movement has been documented between these geographic stocks, but rookeries in the U.S. are widely separated from major rookeries of western Baja California, Mexico (Barlow et al., 1995). The U.S. stock of California sea lion is the only stock present in the proposed research area. The California sea lion has the largest population of any sea lion species and is the only sea lion whose population is showing a healthy growth rate of 5 to 6.2 percent per annum. Annual incidental takes in fisheries is approximately 915 individuals; however, the population is growing by 8.2 percent per year and fishing mortality is declining (Barlow et al., 1995). Current U.S. population estimates range from 237,000 to 244,000 (Carretta et al., 2008).

California sea lions give birth in May through July and breeding occurs in July and August. Females and pups are resident at breeding colonies year round and males migrate north to feeding areas from central California to British Columbia, Canada. During years of low food availability (e.g., El Nino Southern Oscillation, or ENSO), females and juveniles may also migrate north in search of prey; and in some particularly poor years (1997 - 1998), there can be mass mortality of pups at rookeries.

On the Farallon Islands, California sea lions haul out in many intertidal areas year round, fluctuating from several hundred to several thousand animals. Breeding animals are concentrated in areas where researchers would not visit (PRBO, unpublished data).

California sea lions at Point Reyes haul out at only a couple locations, but will occur on human structures such as boat ramps. The annual population averages around 300 to 500 during the fall through spring months, although on occasion, several thousand sea lions can arrive depending upon local prey resources (S. Allen, unpublished data).

Steller Sea Lion

Steller sea lions breed from the Kuril Islands and Okhotsk Sea through the Aleutian Islands and the Gulf of Alaska, and south to central California (Merrick et al., 1987). Two separate stocks are recognized within U.S. waters: an eastern U.S. stock that includes animals east of Cape Suckling, Alaska (144o W), and a western U.S. stock that includes animals west of Cape Suckling.

The Steller sea lion was hunted during the sealing era for fur, hides, blubber, and other organs. More recently, Steller sea lions were harvested during a modern pup hunt that lasted from 1959-1972 during which approximately 45,000 pups were taken (Pasquel and Adkison, 1994).

At the cessation of the modern commercial hunting, the Steller sea lion was found along the Pacific Rim from California to Japan with approximately 70 percent of the population in Alaskan waters.

Despite the cessation of the commercial hunt, the Steller sea lion population has experienced a rapid decrease since the mid-1980s, with the western population stock declining by greater than 64 percent in the last 30 years (Loughlin et al., 1992). The number in 1989 was estimated at 68,094 individuals. This total included 10,000 in Russia, 47,960 in Alaska, 6,109 in British Columbia, 2,261 in Oregon, and 1,764 in California (Loughlin et al., 1992). Numbers in Alaska have been declining by 7.8 percent since 1994 (National Marine Mammal Laboratory, 1995) and have declined by three percent in California (Le Boeuf et al., 1991; Ono 1993).

In the 1960s and 70s the number of sea lions caught in trawl nets peaked, while present day numbers are low. California fisheries target several of the most important prey items for Steller sea lions and millions of metric tons of prey have been removed by fisheries in recent decades. Incidental mortality of Steller sea lions in fisheries was very low between 1990 and 2001 in California. Shooting of adults during fisheries interactions in central California have been documented by the Marine Mammal Stranding Network and one adult male was found shot at Point Reyes, California in the 1990s.

In 1990, the Steller sea lion was listed as a threatened species under the Endangered Species Act (ESA). Due to persistent decline of the western U.S. stock, NMFS reclassified these Steller sea lions as an endangered distinct population segment (DPS) under the ESA in 1997, while the eastern U.S. stock remained classified as threatened. Under the MMPA, all Steller sea lions are classified as strategic stocks are considered “depleted.”

The eastern stock of Steller sea lions breeds on rookeries located in southeast Alaska, British Columbia, Oregon, and California; there are no rookeries located in Washington. Counts of pups on rookeries conducted near the end of the birthing season are nearly complete counts of pup production. Calkins and Pitcher (1982) concluded that the total Steller sea lion population could be estimated by multiplying the pup counts by a factor of 4.5, which was based on the birth rate, and the sex and age structure of the western Steller sea lion population in the central Gulf of Alaska. Using the most recent 2002-2005 pup counts available by region from aerial surveys across the range of the eastern stock, the total population of the eastern stock of Steller sea lions is estimated to be 48,519 or 54,989. These are based on multiplying the total number of pups counted in southeast Alaska (5,510 in 2005; NMFS, 2006), British Columbia (3,318 in 2002; Pitcher et al., 2007), Oregon (1,136 in 2002; Pitcher et al., 2007), and California 818 in 2004; NMFS, 2006) by either 4.5 (Calkins and Pitcher, 1982) or 5.1 (Trites and Larkin, 1996). These are notminimum population estimates, since they are extrapolated from pup counts from photographs taken in 2002 - 2005, and demographic parameters of a stable, equilibrium non-pup population that were estimated for the western Steller sea lion in the mid-1970s (Calkins and Pitcher, 1982). Trites and Larkin's (1996) pup multiplier accounts for pups that die and disappear prior to, as well as pups born after, the counts are conducted. A pup multiplier is used for estimating the size of the eastern stock of Steller sea lions, but not the western stock. Since the western stock has declined drastically, the assumption of an equilibrium population in the west is not valid. Because the eastern stock is increasing within most of its range, using a pup multiplier is a reasonable approach to estimating abundance from pup counts.

Steller sea lion numbers in California, especially in southern and central California, have declined from historic numbers. Counts in California between 1927 and 1947 ranged between 5,000 and 7,000 non-pups with no apparent trend, but have subsequently declined by over 50 percent, remaining between 1,500 and 2,000 non-pups during 1980 - 2001. Limited information suggests that counts in northern California appear to be stable (NMFS, 1995).

The current population of eastern Steller sea lions in the proposed research area is estimated to number between 50 and 750 animals. The PRBO estimates that between 50 and 150 Steller sea lions live on the Farallon Islands, and the NMFS Southwest Fisheries Science Center (SWFSC) estimates between 400 and 600 live on ANI (PRBO unpublished data, 2008; SWFSC unpublished data, 2008).

On SEFI, the abundance of females declined an average of 3.6 percent per year from 1974 to 1997 (Sydeman and Allen 1999). Pup counts at ANI declined 5 percent annually through the 1990s (NOAA Stock Assessment, 2003), and have apparently stabilized between 2001 and 2005 (M. Lowry, SWFSC unpublished data).

In 2000, the combined pup estimate for both islands was 349. In 2005, the pup estimate was 204 on ANI. Pup counts on the Farallon Islands have generally varied from five to 15 (Hastings and Sydeman, 2002; PRBO unpublished data). Pups have not been born at Point Reyes Headland since the 1970s and Steller sea lions are seen in very low numbers there currently (S. Allen, unpubl. data).

Steller sea lions give birth in May through July and breeding commences a couple of weeks after birth. Non-reproductive animals congregate at a few haul out sites, including at ANI and Point Reyes Headland. Pups are weaned during the winter and spring of the following year.

Potential Effects on Marine Mammals

The only anticipated impacts would be temporary disturbances caused by the appearance of researchers near the pinnipeds. The potential disturbance might alter pinniped behavior and cause animals to flush from the area. Animals may return to the same site once researchers have left or go to an alternate haul out site, which usually occurs within 30 minutes (Allen et al., 1985). Long term effects of this disturbance are unlikely, as very few breeding animals will be present in the vicinity of the proposed seabird research areas.

It is expected that any incidental disturbance to pinnipeds from both types of research would have minimal, short-term effects and no long-term effects on the individuals. Incidental disturbance is believed to have minimal impacts because pinnipeds usually return to a site or a nearby site within 30 minutes upon conclusion of research activities (Allen et al., 1985). Numerous Incidental Harassment Authorizations and Letters of Authorizations under the MMPA, Incidental Take Permits under Section 10(a)(1)(b) of the ESA, issued by NMFS (e.g. 72 FR 124, January 3, 2007), and reports on more localized areas (e.g., Demarchi and Bentley, 2004) have analyzed the potential effects of incidental disturbance to pinnipeds from various sources. Based on these reports, the effects to pinnipeds appear, at the most, to displace the animals temporarily from their haul out sites. Based on previous research reports from PRBO, maximum disturbance to Steller sea lions would result in the animals flushing into the water in response to presence of the researchers. It is not expected that pinnipeds would permanently abandon a haul-out site during PRBO's research, as precautions would be taken to not disturb the same haul-out site on frequent occasions.

No research would occur on pinniped rookeries; therefore, mother and pup separation or crushing of pups is not a concern. Incidental harassment may occur as researchers approach the haul out sites with vessels and during capture and sampling activities of harbor seals and northern elephant seals. In PRBO's final report of activities conducted from 2000-2005 under Scientific Research Permit No. 373-1575, they reported disturbing less than 16 Steller sea lions during all elephant seal surveys on WEI.

Potential Impacts on Habitat

Neither the proposed seabird research, nor the proposed pinniped research would result in the physical altering of marine mammal habitat. Further, incidental marine mammal takes will not result in the physical altering of marine mammal habitat or major breeding habitat. No survey or sampling equipment will be left in habitat areas; no toxic chemicals will be present; and all state and federal marine regulations, including those from National Marine Sanctuaries, will be followed in regards to boat emissions.

Potential Impacts to Subsistence Harvest of Marine Mammals

There is no subsistence harvest of marine mammals in the proposed research area; therefore, there will be no impact of the activity on the availability of the species or stocks of marine mammals for subsistence uses.

Number of Marine Mammals Expected to Be Taken

It is expected that approximately 2,242 California sea lions, 418 harbor seals, 253 northern elephant seals, and 31 Steller sea lions could be potentially affected by Level B harassment. This estimate is based on previous research experiences, with the same activities conducted in the proposed research area, and on marine mammal research activities in these areas. These incidental harassment take numbers represent approximately one percent of the U.S. stock of California sea lion, 1.2 percent of the California stock of Pacific harbor seal, less than one percent of the California breeding stock of northern elephant seal, and 0.02 percent of the eastern U.S. stock of Steller sea lion. All of the potential takes are expected to be Level B behavioral harassment only. No injury or mortality to pinnipeds is expected or requested.

Proposed Monitoring and Mitigation Measures

To reduce the potential for disturbance from visual and acoustic stimuli associated with these activities, PRBO proposes to undertake the following marine mammal mitigation measures:

(1) Researchers would keep their voices hushed and bodies low in the visual presence of pinnipeds.

(2) Seabird observations at North Landing on Southeast Farallon Island would be conducted in an observation blind where researchers are shielded from the view of hauled out pinnipeds.

(3) Beach landings on Año Nuevo Island would only occur after any pinnipeds that might be present on the landing beach have entered the water.

(4) Año Nuevo Island researchers accessing seabird nest boxes would crawl slowly if pinnipeds are within view.

(5) Visits to intertidal areas of Southeast Farallon Island during research activities would be coordinated to reduce potential take.

(6) All research goals on Ano Nuevo Island would be coordinated to minimize the necessary number of trips to the island. Once on Ano Nuevo Island, researchers would coordinate monitoring schedules so that areas near any pinnipeds would be accessed only once per visit.

(7) The lead biologist would always serve as an observer to evaluate incidental take and halt any research activities should the potential for incidental take be too great.

Proposed Monitoring and Reporting

Researchers would take notes of sea lions and seals observed within the proposed research area during studies. The notes would provide dates, time, tidal height, species, numbers of sea lions and seals present, and any disturbances. PRBO would submit a final report, including these notes, to NMFS within 90 days after the expiration of the Incidental Harassment Authorization (IHA), if it is issued.

National Environmental Policy Act (NEPA)

In 2007, NMFS prepared a draft Environmental Assessment (EA) on the issuance of an IHA to PRBO to take marine mammals by Level B harassment incidental to conducting seabird research in central California. The draft EA was released for public review and comment along with the application and the proposed IHA (72 FR 41294, July 27, 2007). All comments were addressed in full in the Federal Register Notice of Issuance of an IHA for PRBO (72 FR 71121, December 14, 2007). At that time, NMFS determined that conducting the seabird research would not have a significant impact on the quality of the human environment and issued a Finding of No Significant Impact.

For this proposed action, PRBO has requested to incidentally harass 31 Steller sea lions, (i.e., 17 more than what was requested in the 2007 IHA). Because of this increase in the numbers of marine mammals incidentally harassed, NMFS has determined that it will update the 2007 EA. NMFS is currently preparing a Supplemental EA which incorporates by reference the 2007 Final EA. Before making a determination on the issuance of an IHA, NMFS will ensure compliance with NEPA and its implementing regulations.

Endangered Species Act

In a 2007 Biological Opinion issued on July 27, 2007, NMFS concluded that that the issuance of an IHA to PRBO for seabird research was likely to affect, but not likely to jeopardize the continued existence of Steller sea lions. NMFS had issued an incidental take statement (ITS) for Steller sea lions pursuant to section 7 of the ESA. The ITS contained reasonable and prudent measures for implementing terms and conditions to minimize the effects of this take.

Since the proposed pinniped research expands the scope of the previously analyzed action, NMFS is conducting a Section 7 consultation under the ESA to make a determination whether the proposed research project would be likely to jeopardize the continued existence of the eastern U.S. stock of Steller sea lions.

Preliminary Determinations

NMFS proposes to issue an IHA to PRBO to take small numbers of marine mammals by harassment incidental to conducting seabird and pinniped research activities on Southeast Farallon Island, Ano Nuevo Island, and Point Reyes National Seashore in central CA. The marine mammals most likely to be harassed incidental to conducting pinniped research (NMFS Scientific Research Permit (SRP) 373-1868-00) are primarily Steller sea lions. Issuance of this IHA would be contingent upon adherence to the proposed mitigation, monitoring, and reporting requirements described in this Federal Register notice. For the reasons discussed in this document and in the identified supporting documents, NMFS has preliminarily determined that the impact of seabird research on SEFI, ANI, and PRNS would result in Level B harassment only of small numbers of California sea lions, Pacific harbor seals, northern elephant seals, and Steller sea lions hauled out in the vicinity of the proposed research area; and would have a negligible impact on the affected species. The provision requiring that the activities not have an unmitigable adverse impact on the availability of the affected species or stock for subsistence uses does not apply for this proposed action.

No take by Level A harassment (injury) or death is anticipated and harassment takes should be at the lowest level practicable due to incorporation of the mitigation measures proposed in this document.

Proposed Authorization

As a result of these preliminary determinations, NMFS proposes to issue an IHA to PRBO for the potential harassment of small numbers of California sea lions, harbor seals, northern elephant seals, and Steller sea lions incidental to conducting of seabird research on Southeast Farallon Island, Año Nuevo Island, and Point Reyes National Seashore, provided the previously mentioned mitigation, monitoring, and reporting requirements are incorporated.

Dated: September 24, 2008.
James H. Lecky,
Director, Office of Protected Resources, National Marine Fisheries Service.

[FR Doc. E8-22819 Filed 9-26-08; 8:45 am]

BILLING CODE 3510-22-S